FEDERAL ELECTION COMMISSION

Public Availability of Federal Election Commission, Procurement Division FY 2011 Service Contract Inventory

AGENCY: Federal Election Commission.

ACTION: Notice of public availability of FY 2011 Service Contract inventories.

SUMMARY: In accordance with Section 743 of Division C of the Consolidated Appropriations Act of 2010 (Pub. L. 111-117), FEC PROCUREMENT DIVISION is publishing this notice to advise the public of the availability of the FY 2010 Service Contract inventory. This inventory provides information on service contract actions over $25,000 that were made in FY 2011. The information is organized by function to show how contracted resources are distributed throughout the agency. The inventory has been developed in accordance with guidance issued on December 19, 2011 by the Office of Management and Budget's Office of Federal Procurement Policy (OFPP). OFPP's guidance is available at: http://www.whitehouse.gov/sites/default/files/omb/procurement/memo/service-contract-inventories-guidance-11052010.pdf.

The FEC Procurement Division has posted its inventory and a summary of the inventory on the FEC homepage at the following link: http://www.fec.gov/pages/procure/procure.shtml.

FOR FURTHER INFORMATION CONTACT: Questions regarding the service contract inventory should be directed to Mary Sprague, Chief Financial Officer, at 202-694-1217 or MSPRAGUE@FEC.GOV.

Dated: February 29, 2012.
Shawn Woodhead Werth,
Secretary and Clerk, Federal Election Commission.

[FR Doc. 2012-5866 Filed 3-9-12; 8:45 am]

BILLING CODE P